SECURITIES AND EXCHANGE COMMISSION

Sunshine Act Meeting

Federal Register Citation of Previous Announcement: [to be published]

STATUS: Closed Meeting.

PLACE: 100 F Street NE., Washington, DC.

Date and Time of Previously Announced Meeting: Thursday, August 14, 2014.

Change in the Meeting: Cancellation of Meeting.

The Closed Meeting scheduled for Thursday, August 14, 2014 at 2:00 p.m. has been cancelled.

For further information please contact the Office of the Secretary at (202) 551-5400.

Dated: August 7, 2014.
Kevin M. O'Neill,
Deputy Secretary.

[FR Doc. 2014-19100 Filed 8-8-14; 11:15 am]

BILLING CODE 8011-01-P